DEPARTMENT OF THE TREASURY

Submission for OMB Review; Comment Request

March 13, 2006.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before April 17, 2006 to be assured of consideration.

Internal Revenue Service (IRS)

OMB Number: 1505-0170.

Type of Review: Extension.

Title: Form for OFAC License Application to Unblock Funds Transfers.

Form TD-Form 90-22.54.

Description: Assets blocked pursuant to sanctions administered by Office of Foreign Assets Control (OFAC) may be released only through a specific license issued by OFCA. Since February 2000, use of this form to apply for the unblocking of funds transfers has been mandatory pursuant to 31 CFR 501.801(b)(2). Use of this form greatly facilitates and speeds applicants' submission and OFAC's processing.

Respondents: Business or other for-profit and Not-for-profit institutions.

Estimated Total Burden Hours: 1,500 hours.

Clearance Officer: Stephanie Petersen, Department of Treasury, Office of Foreign Assets Control, 1500 Pennsylvania Avenue, NW., Annex-2nd Floor, Washington, DC 20220. (202) 622-2500.

OMB Reviewer: Alexander T. Hunt, Office of Management and Budget, Room 10235, New Executive Office Building, Washington, DC 20503. (202) 395-7316.

Michael A. Robinson,
Treasury PRA Clearance Officer.

[FR Doc. E6-3905 Filed 3-16-06; 8:45 am]

BILLING CODE 4810-25-P